FEDERAL COMMUNICATIONS COMMISSION

47 CFR Parts 0, 1, 2, 61, 64, and 80

[DA-08-122]

Amendment of the Commission's Rules, Concerning Commission Organization, Practice and Procedure, Frequency Allocations and Radio Treaty Matters; General Rules and Regulations, and Stations in the Maritime Services

AGENCY: Federal Communications Commission.

ACTION: Final rule.

SUMMARY: In this document, the Federal Communications Commission's (FCC) Office of Managing Director adopts final rules that change the addresses that regulatees, applicants and licensees use to submit, or file, certain applications and payments to the Commission. These non-substantive, non-controversial rule amendments are necessary to reflect a recent change by the Commission in the bank providing the Commission's lockbox service, ensuring continued processing of future applications and fees. This Order also makes several non-substantive changes to the Commission's fee provisions.

DATES: Effective February 19, 2008.

FOR FURTHER INFORMATION CONTACT: Warren Firschein, Office of the Managing Director, (202) 418-0844.

SUPPLEMENTARY INFORMATION: This is a summary of the Commission's Order, DA-08-122, adopted January 24, 2008 and released January 25, 2008. The full text of the Report and Order is available for public inspection on the Commission's Internet site at http://www.fcc.gov. It is also available for inspection and copying during regular business hours in the FCC Reference Center (Room CY-A257), 445 12th Street, SW., Washington, DC 20554. The full text of this document also may be purchased from the Commission's duplication contractor, Best Copy and Printing Inc., Portals II, 445 12th St., SW., Room CY-B402, Washington, DC 20554; telephone (202) 488-5300; fax (202) 488-5563; e-mail FCC@BCPIWEB.COM.

Final Paperwork Reduction Act of 1995 Analysis

The rules contained herein have been analyzed with respect to the Paperwork Reduction Act of 1980 and found to contain no new or modified form, information collection and/or recordkeeping, labeling, disclosure, or record retention requirements, and will not increase or decrease burden hours imposed on the public. Finally, because these amendments to our rules are adopted without notice and comment, no regulatory flexibility analysis is required.

Congressional Review Act

Because the adopted rules are rules of agency organization, procedure, or practice that do not “substantially affect the rights or obligations of non-agency parties,” the Commission will not send a copy of the Report and Order in a report to Congress and the Government Accountability Office pursuant to the Congressional Review Act, see 5 U.S.C. 801(a)(1)(A).

Synopsis of the Notice of Proposed Rulemaking

Amendment of Parts 0, 1, 2, 61, 64, and 80 of the Commission's Rules, Concerning Commission Organization, Practice and Procedure, Frequency Allocations and Radio Treaty Matters; General Rules and Regulations, and Stations in the Maritime Services.

This Order amends the Commission's rules to change the name and address that regulatees, applicants and licensees use to submit, or file, certain applications and payments to the Commission. These non-substantive, non-controversial rule amendments are necessary to reflect a recent change by the Commission in the bank providing the Commission's lockbox service, ensuring continued processing of future applications and fees. The changes affect rules governing Commission Organization (47 CFR Part 0), Practice and Procedure (47 CFR Part 1), Frequency Allocations and Radio Treaty Matters; General Rules and Regulations (47 CFR Part 2), Tariffs (47 CFR Part 61), Miscellaneous Rules Relating to Common Carriers (47 CFR Part 64), Radio Broadcast Services (47 CFR Part 73), and Stations in the Maritime Services (47 CFR Part 80). Specifically, this Order corrects bank addresses in several provisions of sections 0.401(b), 0.482, 1.80(h), 1.227(b), 1.907, 1.1102, 1.1103, 1.1104, 1.1105, 1.1106, 1.1107, 1.1152, 1.1153, 1.1154, 1.1155, 1.1156, 1.1166(d), 1.10001, 1.10009, 2.913(b), 61.14(b), 61.17(b), 61.20(b), 61.32(b), 61.153(b), 64.709(d), and 80.59(c) of the Commission's Rules, 47 CFR 0.401(b), 0.482, 1.80(h), 1.227(b), 1.907, 1.1102, 1.1103, 1.1104, 1.1105, 1.1106, 1.1107, 1.1152, 1.1153, 1.1154, 1.1155, 1.1156, 1.1166(d), 1.10001, 1.10009, 2.913(b), 61.14, 61.17, 61.20, 61.32, 61.153, 64.709, and 80.59(c). This Order also makes several non-substantive changes to the Commission's fee provisions to correct inadvertent errors to payment codes.

In order to provide a fair and sufficient transition period to allow filers to become familiar with the address changes in the rules, we provide that for forty-five days after publication in the Federal Register, fees, applications, and other filings erroneously submitted by parties to the former lockbox bank shall be forwarded automatically to the new bank at the address listed in the rules. In addition, during this transition period, the date that such fees, applications, and other filings are date-stamped as received by the former lockbox bank shall be deemed to be the official filing date of such submissions.

The rule amendments set forth in the attached Appendix relate to agency practice and procedure, and make minor, non-controversial procedural changes that do not raise issues upon which public notice and comment is necessary or would serve any useful purpose. Furthermore, since these amendments merely reflect procedural changes in the bank and addresses to which filings must be submitted, and the Commission has provided by rule the 45-day transition period to allow filers to become aware of the procedural change, good cause exists for adoption of these rule amendments without affording notice and comment. Authority for this action is set forth in the Administrative Procedure Act, 5 U.S.C. 553(b)(A) and (B).¹

¹ See also 47 CFR 1.412(b)(5), (c) (stating that prior notice is not required for amendments to rules relating to Commission organization, procedure, or practice, or “in any situation in which the Commission for good cause finds that notice and public procedure are impracticable, unnecessary, or contrary to the public interest”).

Finally, because the Commission has provided a 45-day transition period before a filer will be penalized for not using the correct address, good cause has been shown for these rule changes to become effective February 19, 2008 on the date of publication in the Federal Register. See 5 U.S.C. 553(d)(3); 47 CFR 1.427(b). This will allow parties who are aware of the new address to begin using it without delay, while avoiding any prejudice to those who learn of the change when it is published in the Federal Register.

Ordering Clauses

Accordingly, It is hereby ordered that, pursuant to the authority contained in Sections 4(i) and 303(r) of the Communications Act of 1934, as amended, 47 U.S.C. 154(i) and 303(r), and section 0.231(b) of the Commission's regulations, 47 CFR 0.231(b), Parts 0, 1, 2, 61, 64, 73, and 80 of the Commission's rules are amended as set forth in the attached Appendix.

It is further ordered that these amendments are effective February 19, 2008. See section 553(d)(3) of the Administrative Procedure Act, 5 U.S.C. 553(d)(3).

It is further ordered that the Secretary shall cause a copy of this Order to be published in the Federal Register.

List of Subjects

47 CFR Part 0

Organization and functions (Government agencies).

47 CFR Part 1

Administrative practice and procedure, Penalties.

47 CFR Part 2

Telecommunications.

47 CFR Part 61

Communications common carriers, Telephone.

47 CFR Part 64

Communications common carriers, Telecommunications, Telephone.

47 CFR Part 80

Radio, Television.

Federal Communications Commission.
Anthony Dale,
Managing Director.

Final Rules

For the reasons discussed in the preamble, the Federal Communications Commission amends 47 CFR parts 0, 1, 2, 61, 64, and 80 as follows:

PART 0—COMMISSION ORGANIZATION

1. The authority citation for part 0 continues to read as follows:

Authority: Sec. 5, 48 Stat. 1068, as amended; 47 U.S.C. 155, 225, unless otherwise noted.

2. Section 0.401 is amended by revising the first sentence of paragraph (b) introductory text, the first sentence of paragraph (b)(1), and the first and second sentences of paragraph (b)(2) to read as follows:

§ 0.401 Location of Commission offices.

* * * * *

(b) Applications or filings requiring the fees set forth at part 1, subpart G of the rules must be delivered to the Commission's lockbox bank in St. Louis, Missouri with the correct fee and completed Fee Form attached to the application or filing, unless otherwise directed by the Commission. * * *

* * * * *

(1) Applications and filings submitted by mail shall be addressed to the U.S. Bank in St. Louis, Missouri. * * *

* * * * *

(2) Applications and other filings may also be hand carried, in person or by courier, to the U.S. Bank, Government Lockbox, 1005 Convention Plaza, St. Louis, Missouri. All applications and filings delivered in this manner must be in an envelope clearly marked for the “Federal Communications Commission,” and identified with the appropriate Post Office Box address as set out in the fee schedule (§§ 1.1102 through 1.1109 of this Chapter). * * *

* * * * *

3. Section 0.482 is amended by revising the first sentence to read as follows:

§ 0.482 Applications For Waiver.

All requests for waiver of the rules (see § 1.925 of this Chapter) governing the Wireless Radio Services (see § 1.907 of this Chapter) that require a fee (see § 1.1102 of this Chapter) shall be submitted via the Universal Licensing System or to the U.S. Bank, St. Louis, Missouri at the address set forth in § 1.1102. * * *

PART 1—PRACTICE AND PROCEDURE

4. The authority citation for Part 1 continues to read as follows:

Authority: 15 U.S.C. 79 et seq.; 47 U.S.C. 151, 154(i), 154(j), 155, 157, 225, 303(r), and 309.

Subpart A—General Rules of Practice and Procedure

5. Section 1.80 is amended by revising the third sentence of paragraph (h) to read as follows:

§ 1.80 Forfeiture Proceeding.

* * * * *

(h) * * * The check or money order should be mailed to: Federal Communications Commission, P.O. Box 979088, St. Louis, MO 63197-9000.

* * * * *

Subpart B—Hearing Proceedings

6. Section 1.227 is amended by revising the second sentence of paragraph (b)(4) to read as follows:

§ 1.227 Consolidations.

* * * * *

(b) * * *

(4) * * * Except for applications filed under part 101, subparts H and O, Private Operational Fixed Microwave Service, and applications for high seas public coast stations (see §.§ 80.122(b)(1) (first sentence), 80.357, 80.361, 80.363(a)(2), 80.371(a), (b), and (d), and § 80.374 of this chapter) mutual exclusivity will occur if the later application or applications are received by the Commission's offices in Gettysburg, PA (or St. Louis, Missouri for applications requiring the fees set forth at part 1, subpart G of the rules) in a condition acceptable for filing within 30 days after the release date of public notice listing the first prior filed application (with which subsequent applications are in conflict) as having been accepted for filing or within such other period as specified by the Commission. * * *

* * * * *

Subpart F—Wireless Radio Services Applications and Proceedings

7. Section 1.907 is amended by revising the first sentence of the definition of “Receipt date” to read as follows:

§ 1.907 Definitions.

* * * * *

Receipt date. The date an electronic or paper application is received at the appropriate location at the Commission or U.S. Bank. * * *

* * * * *

Subpart G—Schedule of Statutory Charges and Procedures for Payment

8. Section 1.1102 is revised to read as follows:

§ 1.1102 Schedule of charges for applications and other filings in the wireless telecommunications services.

Those services designated with an asterisk in the payment type code column have associated regulatory fees that must be paid at the same time the application fee is paid. Please refer to § 1.1152 for the appropriate regulatory fee that must be paid for this service.

Remit manual filings and/or payment for these services to the: Federal Communications Commission, Wireless Bureau Applications, P.O. Box 979097, St. Louis, MO 63197-9000.

Service | FCC form No. | Fee amount | Payment type code
1. Marine Coast
a. New; Renewal/Modification | 601 & 159 | $115.00 | PBMR*
b. Modification; Public Coast CMRS; Non-Profit | 601 & 159 | 115.00 | PBMM
c. Assignment of Authorization | 603 & 159 | 115.00 | PBMM
d. Transfer of Control | 603 & 159 | 60.00 | PATM
Spectrum Leasing for Public Coast | 603-T/608** & 159 |  |
e. Duplicate License | 601 & 159 | 60.00 | PADM
f. Special Temporary Authority | 601 & 159 | 160.00 | PCMM
g. Renewal Only | 601 & 159 | 115.00 | PBMR*
h. Renewal (Electronic Filing) | 601 & 159 | 115.00 | PBMR*
i. Renewal Only (Non-Profit; CMRS) | 601 & 159 | 115.00 | PBMM
j. Renewal (Electronic Filing) Non-profit, CMRS | 601 & 159 | 115.00 | PBMM
k. Rule Waiver | 601, 603 or 603-T/608** & 159 | 170.00 | PDWM
l. Modification for Spectrum Leasing for Public Coast Stations | 608** & 159 | 115.00 | PBMM
2. Aviation Ground
a. New; Renewal/Modification | 601 & 159 | 115.00 | PBVR*
b. Modification; Non-Profit | 601 & 159 | 115.00 | PBVM
c. Assignment of Authorization | 603 & 159 | 115.00 | PBVM
d. Transfer of Control | 603 & 159 | 60.00 | PATM
e. Duplicate License | 601 & 159 | 60.00 | PADM
f. Special Temporary Authority | 601 & 159 | 160.00 | PCVM
g. Renewal Only | 601 & 159 | 115.00 | PBVR*
h. Renewal (Electronic Filing) | 601 & 159 | 115.00 | PBVR*
i. Renewal Only; Non-Profit | 601 & 159 | 115.00 | PBVM
j. Renewal;
Non-Profit (Electronic Filing) | 601 & 159 | 115.00 | PBVM
k. Rule Waiver | 601 or 603 & 159 | 170.00 | PDWM
3. Ship
a. New; Renewal/Modification; Renewal Only | 605 & 159 | 60.00 | PASR*
b. New; Renewal/Modification; Renewal Only (Electronic Filing) | 605 & 159 | 60.00 | PASR*
c. Renewal Only; Non-profit | 605 & 159 | 60.00 | PASM
d. Renewal Only; Non-profit (Electronic Filing) | 605 & 159 | 60.00 | PASM
e. Modification; Non-profit | 605 & 159 | 60.00 | PASM
f. Modification; Non-profit (Electronic Filing) | 605 & 159 | 60.00 | PASM
g. Duplicate License | 605 & 159 | 60.00 | PADM
h. Duplicate License (Electronic Filing) | 605 & 159 | 60.00 | PADM
i. Exemption from Ship Station Requirements | 605 & 159 | 170.00 | PDWM
j. Rule Waiver | 605 & 159 | 170.00 | PDWM
k. Exemption from Ship Station Requirements (Electronic Filing) | 605 & 159 | 170.00 | PDWM
l. Rule Waiver (Electronic Filing) | 605 & 159 | 170.00 | PDWM
4. Aircraft
a. New; Renewal/Modification | 605 & 159 | 60.00 | PAAR*
b. New; Renewal/Modification (Electronic Filing) | 605 & 159 | 60.00 | PAAR*
c. Modification; Non-Profit | 605 & 159 | 60.00 | PAAM
d. Modification Non-Profit (Electronic Filing) | 605 & 159 | 60.00 | PAAM
e. Renewal Only | 605 & 159 | 60.00 | PAAR*
f. Renewal (Electronic Filing) | 605 & 159 | 60.00 | PAAR*
g. Renewal Only; Non-Profit | 605 & 159 | 60.00 | PAAM
h. Renewal; Renewal/Modification Non-Profit (Electronic Filing) | 605 & 159 | 60.00 | PAAM
i. Duplicate License | 605 & 159 | 60.00 | PADM
j. Duplicate License (Electronic Filing) | 605 & 159 | 60.00 | PADM
k. Rule Waiver | 605 & 159 | 170.00 | PDWM
l. Rule Waiver (Electronic Filing) | 605 & 159 | 170.00 | PDWM
5. Private Operational Fixed Microwave and Private DEMS
a. New; Renewal/Modification | 601 & 159 | 245.00 | PEOR*
b. New; Renewal/Modification (Electronic Filing) | 601 & 159 | 245.00 | PEOR*
c. Modification; Consolidate Call Signs; Non-Profit | 601 & 159 | 245.00 | PEOM
d. Modification; Consolidate Call Signs; Non-Profit (Electronic Filing) | 601 & 159 | 245.00 | PEOM
e. Renewal Only | 601 & 159 | 245.00 | PEOR*
f. Renewal (Electronic Filing) | 601 & 159 | 245.00 | PEOR*
g. Renewal Only; Non-Profit | 601 & 159 | 245.00 | PEOM
h. Renewal Non-Profit (Electronic Filing) | 601 & 159 | 245.00 | PEOM
i. Assignment | 603 & 159 | 245.00 | PEOM
j. Assignment (Electronic Filing) | 603 & 159 | 245.00 | PEOM
k. Transfer of Control; | 603 & 159 | 60.00 | PATM
Spectrum Leasing | 603-T/608** & 159 |  |
l. Transfer of Control; | 603 & 159 | 60.00 | PATM
Spectrum Leasing (Electronic Filing) | 603-T/608** & 159 |  |
m. Duplicate License | 601 & 159 | 60.00 | PADM
n. Duplicate License (Electronic Filing) | 601 & 159 | 60.00 | PADM
o. Special Temporary Authority | 601 & 159 | 60.00 | PAOM
p. Special Temporary Authority (Electronic Filing) | 601 & 159 | 60.00 | PAOM
q. Rule Waiver | 601, 603 or 603-T/608** & 159 | 170.00 | PDWM
r. Rule Waiver (Electronic Filing) | 601, 603 or 603-T/608** & 159 | 170.00 | PDWM
s. Modification for Spectrum Leasing | 608** & 159 | 245.00 | PEOM
t. Modification for Spectrum Leasing (Electronic Filing) | 608** & 159 | 245.00 | PEOM
6. Land Mobile PMRS; Intelligent Transportation Service
a. New or Renewal/Modification (Frequencies below 470 MHz (except 220 MHz)) 902-928 MHz & RS | 601 & 159 | 60.00 | PALR*
b. New; Renewal/Modification (Frequencies below 470 MHz (except 220 MHz)) (Electronic Filing) | 601 & 159 | 60.00 | PALR*
c. New; Renewal/Modification (Frequencies 470 MHz and above and 220 MHz Local) | 601 & 159 | 60.00 | PALS*
d. New; Renewal/Modification (Frequencies 470 MHz and above and 220 MHz Local) (Electronic Filing) | 601 & 159 | 60.00 | PALS*
e. New; Renewal/Modification (220 MHz Nationwide) | 601 & 159 | 60.00 | PALT*
f. New; Renewal/Modification (220 MHz Nationwide) (Electronic Filing) | 601 & 159 | 60.00 | PALT*
g. Modification; Non-Profit; For Profit Special Emergency and Public Safety; and CMRS | 601 & 159 | 60.00 | PALM
h. Modification; Non-Profit; For Profit Special Emergency and Public Safety; and CMRS (Electronic Filing) | 601 & 159 | 60.00 | PALM
i. Renewal Only | 601 & 159 | 60.00 60.00 60.00 | PALR* PALS* PALT*
j. Renewal (Electronic Filing) | 601 & 159 | 60.00 60.00 60.00 | PALR* PALS* PALT*
k. Renewal Only (Non-Profit; CMRS; For-Profit Special Emergency and Public Safety) | 601 & 159 | 60.00 | PALM
l. Renewal (Non-Profit; CMRS; For-Profit Special Emergency and Public Safety) (Electronic Filing) | 601 & 159 | 60.00 | PALM
m. Assignment of Authorization (PMRS & CMRS) | 603 & 159 | 60.00 | PALM
n. Assignment of Authorization (PMRS & CMRS) (Electronic Filing) | 603 & 159 | 60.00 | PALM
o. Transfer of Control (PMRS CMRS); | 603 & 159 | 60.00 | PATM
Spectrum Leasing | 603-T/608** & 159 | 60.00 | PATM
p. Transfer of Control (PMRS CMRS); | 603 & 159 | 60.00 | PATM
Spectrum Leasing (Electronic Filing) | 603-T/608** & 159 | 60.00 | PATM
q. Duplicate License | 601 & 159 | 60.00 | PADM
r. Duplicate License (Electronic Filing) | 601 & 159 | 60.00 | PADM
s. Special Temporary Authority | 601 & 159 | 60.00 | PALM
t. Special Temporary Authority (Electronic Filing) | 601 & 159 | 60.00 | PALM
u. Rule Waiver | 601, 603 or 603-T/608** & 159 | 170.00 | PDWM
v. Rule Waiver (Electronic Filing) | 601, 603 or 603-T/608** & 159 | 170.00 | PDWM
w. Consolidate Call Signs | 601 & 159 | 60.00 | PALM
x. Consolidate Call Signs (Electronic Filing) | 601 & 159 | 60.00 | PALM
y. Modification for Spectrum Leasing | 608** & 159 | 60.00 | PALM
z. Modification for Spectrum Leasing (Electronic Filing) | 608** & 159 | 60.00 | PALM
7. 218-219 MHz (previously IVDS)
a. New; Renewal/Modification | 601 & 159 | 60.00 | PAIR*
b. New; Renewal/Modification (Electronic Filing) | 601 & 159 | 60.00 | PAIR*
c. Modification; Non-Profit | 601 & 159 | 60.00 | PAIM
d. Modification; Non-Profit (Electronic Filing) | 601 & 159 | 60.00 | PAIM
e. Renewal Only | 601 & 159 | 60.00 | PAIR*
f. Renewal (Electronic Filing) | 601 & 159 | 60.00 | PAIR*
g. Assignment of Authorization | 603 & 159 | 60.00 | PAIM
h. Assignment of Authorization (Electronic Filing) | 603 & 159 | 60.00 | PAIM
i. Transfer of Control; | 603 & 159 | 60.00 | PATM
Spectrum Leasing | 603-T/608** & 159 | 60.00 | PATM
j. Transfer of Control; | 603 & 159 | 60.00 | PATM
Spectrum Leasing (Electronic Filing) | 603-T/608** & 159 | 60.00 | PATM
k. Duplicate License | 601 & 159 | 60.00 | PADM
l. Duplicate License (Electronic Filing) | 601 & 159 | 60.00 | PADM
m. Special Temporary Authority | 601 & 159 | 60.00 | PAIM
n. Special Temporary Authority (Electronic Filing) | 601 & 159 | 60.00 | PAIM
o. Modification for Spectrum Leasing | 608** & 159 | 60.00 | PAIM
p. Modification for Spectrum Leasing (Electronic Filing) | 608** & 159 | 60.00 | PAIM
8. General Mobile Radio (GMRS)
a. New; Renewal/Modification | 605 & 159 | 60.00 | PAZR*
b. New; Renewal/Modification (Electronic Filing) | 605 & 159 | 60.00 | PAZR*
c. Modification | 605 & 159 | 60.00 | PAZM
d. Modification (Electronic Filing) | 605 & 159 | 60.00 | PAZM
e. Renewal Only | 605 & 159 | 60.00 | PAZR*
f. Renewal (Electronic Filing) | 605 & 159 | 60.00 | PAZR*
g. Duplicate License | 605 & 159 | 60.00 | PADM
h. Duplicate License (Electronic Filing) | 605 & 159 | 60.00 | PADM
i. Special Temporary Authority | 605 & 159 | 60.00 | PAZM
j. Special Temporary Authority (Electronic Filing) | 605 & 159 | 60.00 | PAZM
k. Rule Waiver | 605 & 159 | 170.00 | PDWM
l. Rule Waiver (Electronic Filing) | 605 & 159 | 170.00 | PDWM
9. Restricted Radiotelephone
a. New (Lifetime Permit) | 605 & 159 | 60.00 | PARR
New (Limited Use) | 605 & 159 |  |
b. Duplicate/Replacement Permit | 605 & 159 | 60.00 | PADM
Duplicate/Replacement Permit (Limited Use) | 605& 159 | 60.00 | PADM
10. Commercial Radio Operator
a. Renewal Only; Renewal/Modification | 605 & 159 | 60.00 | PACS
b. Duplicate | 605 & 159 | 60.00 | PADM
11. Hearing | Corres & 159 | 10,680.00 | PFHM
12. Common Carrier Microwave (Pt. To Pt., Local TV Trans. & Millimeter Wave Service)
a. New; Renewal/Modification (Electronic Filing Required) | 601 & 159 | 245.00 | CJPR*
b. Major Modification; Consolidate Call Signs (Electronic Filing Required) | 601 & 159 | 245.00 | CJPM
c. Renewal (Electronic Filing Required) | 601 & 159 | 245.00 | CJPR*
d. Assignment of Authorization; Transfer of Control; | 603 & 159 | 90.00 | CCPM
Spectrum Leasing | 603-T/608** & 159 | 90.00 | CCPM
Additional Stations (Electronic Filing Required) | 603 or 603-T/608** & 159 | 60.00 | CAPM
e. Duplicate License (Electronic Filing Required) | 601 & 159 | 60.00 | PADM
f. Extension of Construction Authority (Electronic Filing Required) | 601 & 159 | 90.00 | CCPM
g. Special Temporary Authority | 601 & 159 | 115.00 | CEPM
h. Special Temporary Authority (Electronic Filing) | 601 & 159 | 115.00 | CEPM
i. Major Modification for Spectrum Leasing (Electronic Filing Required) | 608** & 159 | 245.00 | CJPM
13. Common Carrier Microwave (DEMS)
a. New; Renewal/Modification (Electronic Filing Required) | 601 & 159 | 245.00 | CJLR*
b. Major Modification; Consolidate Call Signs (Electronic Filing Required) | 601 & 159 | 245.00 | CJLM
c. Renewal (Electronic Filing Required) | 601 & 159 | 245.00 | CJLR*
d. Assignment of Authorization; Transfer of Control; | 603 & 159 | 90.00 | CCLM
Spectrum Leasing | 603-T/608** & 159 | 90.00 | CCLM
Additional Stations (Electronic Filing Required) | 603 or 603-T/608** & 159 | 60.00 | CALM
e. Duplicate License (Electronic Filing Required) | 601 & 159 | 60.00 | PADM
f. Extension of Construction Authority (Electronic Filing Required) | 601 & 159 | 90.00 | CCLM
g. Special Temporary Authority | 601 & 159 | 115.00 | CELM
h. Special Temporary Authority (Electronic Filing) | 601 & 159 | 115.00 | CELM
i. Major Modification for Spectrum Leasing (Electronic Filing Required) | 608** & 159 | 90.00 | CJLM
14. Broadcast Auxiliary (Aural and TV Microwave)
a. New; Modification; Renewal/Modification | 601 & 159 | 135.00 | MEA
b. New; Modification; Renewal/Modification (Electronic Filing) | 601 & 159 | 135.00 | MEA
c. Special Temporary Authority | 601 & 159 | 160.00 | MGA
d. Special Temporary Authority (Electronic Filing) | 601 & 159 | 160.00 | MGA
e. Renewal Only | 601 & 159 | 60.00 | MAA
f. Renewal (Electronic Filing) | 601 & 159 | 60.00 | MAA
15. Broadcast Auxiliary (Remote and Low Power)
a. New; Modification; Renewal/Modification | 601 & 159 | 135.00 | MEA
b. New; Modification; Renewal/Modification (Electronic Filing) | 601 & 159 | 135.00 | MEA
c. Renewal Only | 601 & 159 | 60.00 | MAA
d. Renewal (Electronic Filing) | 601 & 159 | 60.00 | MAA
e. Special Temporary Authority | 601 & 159 | 160.00 | MGA
f. Special Temporary Authority (Electronic Filing) | 601 & 159 | 160.00 | MGA
16. Pt 22 Paging & Radiotelephone
a. New; Major Mod; Additional Facility; Major Amendment; Major Renewal/Mod; Fill in Transmitter (Per Transmitter) (Electronic Filing Required) | 601 & 159 | 365.00 | CMD
b. Minor Mod; Renewal; Minor Renewal/Mod; (Per Call Sign) 900 MHz Nationwide Renewal Net Organ; New Operator (Per Operator/Per City) Notice of Completion of Construction or Extension of Time to Construct (Per Application) (Electronic Filing Required) | 601 & 159 | 60.00 | CAD
c. Auxiliary Test (Per Transmitter); Consolidate Call Signs (Per Call Sign) (Electronic Filing Required) | 601 & 159 | 320.00 | CLD
d. Special Temporary Authority (Per Location/Per Frequency) | 601 & 159 | 320.00 | CLD
e. Special Temporary Authority (Per Location/Per Frequency) (Electronic Filing) | 601 & 159 | 320.00 | CLD
f. Assignment of License or Transfer of Control; | 603 & 159 | 365.00 | CMD
Spectrum Leasing (Full or Partial) (Per First Call Sign); | 603-T/608** & 159 | 365.00 | CMD
Additional Call Signs (Per Call Signs) (Electronic Filing Required) | 603 or 603-T/608** & 159 | 60.00 | CAD
g. Subsidiary Comm. Service (Per Request) (Electronic Filing Required) | 601 & 159 | 160.00 | CFD
h. Major Modification for Spectrum Leasing (Electronic Filing Required) | 608** & 159 | 365.00 | CMD
i. Minor Modification for Spectrum Leasing (Electronic Filing Required) | 608** & 159 | 60.00 | CAD
17. Cellular
a. New; Major Mod; Additional Facility; Major Renewal/Mod (Per Call Sign) (Electronic Filing Required) | 601 & 159 | 365.00 | CMC
b. Minor Modification; Minor Renewal/Mod (Per Call Sign) (Electronic Filing Required) | 601 & 159 | 95.00 | CDC
c. Assignment of License; Transfer of Control (Full or Partial) (Per Call Sign) | 603 & 159 | 365.00 | CMC
Spectrum Leasing (Electronic Filing Required) | 603-T/608** & 159 |  |
d. Notice of Extension of Time to Complete Construction; (Per Request) Renewal (Per Call Sign) (Electronic Filing Required) | 601 & 159 | 60.00 | CAC
e. Special Temporary Authority (Per Request) | 601 & 159 | 320.00 | CLC
f. Special Temporary Authority (Per Request) (Electronic Filing) | 601 & 159 | 320.00 | CLC
g. Combining Cellular Geographic Areas (Per Area) (Electronic Filing Required) | 601 & 159 | 80.00 | CBC
h. Major Modification for Spectrum Leasing (Electronic Filing Required) | 608** & 159 | 365.00 | CMC
i. Minor Modification for Spectrum Leasing (Electronic Filing Required) | 608** & 159 | 95.00 | CDC
18. Rural Radio
a. New; Major Renew/Mod; Additional Facility (Per Transmitter) (Electronic Filing Required) | 601 & 159 | 170.00 | CGRR*
b. Major Mod; Major Amendment (Per Transmitter) (Electronic Filing Required) | 601 & 159 | 170.00 | CGRM
c. Minor Modification; (Per Transmitter) (Electronic Filing Required) | 601 & 159 | 60.00 | CARM
d. Assignment of License; Transfer of Control (Full or Partial) (Per Call Sign) | 603 & 159 | 170.00 | CGRM
Spectrum Leasing | 603-T/608** & 159 | 170.00 | CGRM
Additional Calls (Per Call Sign) (Electronic Filing Required) | 603 or 603-T/608** & 159 | 60.00 | CARM
e. Renewal (Per Call Sign); Minor Renewal/Mod (Per Transmitter) (Electronic Filing Required) | 601 & 159 | 60.00 | CARR*
f. Notice of Completion of Construction or Extension of Time to Construct (Per Application) (Electronic Filing Required) | 601 & 159 | 60.00 | CARM
g. Special Temporary Authority (Per Transmitter) | 601 & 159 | 320.00 | CLRM
h. Special Temporary Authority (Per Transmitter) (Electronic Filing) | 601 & 159 | 320.00 | CLRM
i. Combining Call Signs (Per Call Sign) (Electronic Filing Required) | 601 & 159 | 320.00 | CLRM
j. Auxiliary Test Station (Per Transmitter) (Electronic Filing Required) | 601 & 159 | 320.00 | CLRM
k. Major Modification for Spectrum Leasing (Electronic Filing Required) | 608** & 159 | 170.00 | CGRM
l. Minor Modification for Spectrum Leasing (Electronic Filing Required) | 608** & 159 | 60.00 | CARM
19. Offshore Radio
a. New; Major Mod; Additional Facility; Major Amendment; Major Renew/Mod; Fill in Transmitters (Per Transmitter) (Electronic Filing Required) | 601 & 159 | 170.00 | CGF
b. Consolidate Call Signs (Per Call Sign); Auxiliary Test (Per Transmitter) (Electronic Filing Required) | 601 & 159 | 320.00 | CLF
c. Minor Modification; Minor Renewal/Modification (Per Transmitter); Notice of Completion of Construction or Extension of Time to Construct (Per Application); Renewal (Per Call Sign) (Electronic Filing Required) | 601 & 159 | 60.00 | CAF
d. Assignment of License; Transfer of Control (Full or Partial) | 603 & 159 | 170.00 | CGF
Spectrum Leasing | 603-T/608** & 159 | 170.00 | CGF
Additional Calls (Electronic Filing Required) | 603 or 603-T/608** & 159 | 60.00 | CAF
e. Special Temporary Authority (Per Transmitter) | 601 & 159 | 320.00 | CLF
f. Special Temporary Authority (Per Transmitter) (Electronic Filing) | 601 & 159 | 320.00 | CLF
g. Major Modification for Spectrum Leasing (Electronic Filing Required) | 608** & 159 | 170.00 | CGF
h. Minor Modification for Spectrum Leasing (Electronic Filing Required) | 608** & 159 | 60.00 | CAF
20. Broadband Radio Service (Previously Multipoint Distribution Service)
a. New station (Electronic Filing Required) | 601 & 159 | 245.00 | CJM
b. Major Modification of Licenses (Electronic Filing Required) | 601 & 159 | 245.00 | CJM
c. Certification of Completion of Construction (Electronic Filing Required) | 601 & 159 | 720.00 | CPM*
d. License Renewal (Electronic Filing Required) | 601 & 159 | 245.00 | CJM
e. Assignment of Authorization; Transfer of Control (first station) (Electronic Filing Required) | 603 & 159 | 90.00 | CCM
Spectrum Leasing (first station) | 603-T/608** & 159 | 90.00 | CCM
Additional Station | 603-T/608** & 159 | 60.00 | CAM
f. Extension of Construction Authorization (Electronic Filing Required) | 601 & 159 | 210.00 | CHM
g. Special Temporary Authority or Request for Waiver of Prior Construction Authorization (Electronic Filing) | 601 & 159 | 115.00 | CEM
h. Special Temporary Authority | 601 & 159 | 115.00 | CEM
i. Major Modification for Spectrum Leasing (Electronic Filing Required) | 608** & 159 | 245.00 | CJM
21. Communications Assistance for Law Enforcement (CALEA) Petitions | Correspondence & 159 | 5,605.00 | CALA
**FCC Form 608, which is pending OMB approval, will upon its effective date replace FCC Form 603-T, as noted in § 1.1102, above.

9. Section 1.1103 is revised to read as follows:

§ 1.1103 Schedule of charges for equipment approval, experimental radio services (or service).

Remit manual filings and/or payment for these services to the: Federal Communications Commission, OET Services, P.O. Box 979095, St. Louis, MO 63197-9000.

Service | FCC form No. | Fee amount | Payment type code
Equipment Approval Service(s)
1. Certification
a. Receivers (except TV and FM) (Electronic Filing Only) | 731 & 159 | 455.00 | EEC
b. Devices Under Parts 11, 15 & 18 (except receivers) (Electronic Filing Only) | 731 & 159 | 1,165.00 | EGC
c. All Other Devices (Electronic Filing Only) | 731 & 159 | 585.00 | EFT
d. Modifications and Class II Permissive Changes (Electronic Filing Only) | 731 & 159 | 60.00 | EAC
e. Request for Confidentiality under Certification (Electronic Filing Only) | 731 & 159 | 170.00 | EBC
f. Class III Permissive Changes (Electronic Filing Only) | 731 & 159 | 585.00 | ECC
2. Advance Approval of Subscription TV Systems | Corres & 159 | 3,565.00 | EIS
a. Request for Confidentiality For Advance Approval of Subscription TV Systems | Corres & 159 | 170.00 | EBS
3. Assignment of Grantee Code
a. For all Application Types, except Subscription TV (Electronic Filing Only—Optional Electronic Payment) | Electronic Assignment & Form 159 or Optional Electronic Payment | 60.00 | EAG
4. Experimental Radio Service(s)
a. New Station Authorization | 442 & 159 | 60.00 | EAE
b. Modification of Authorization | 442 & 159 | 60.00 | EAE
c. Renewal of Station Authorization | 405 & 159 | 60.00 | EAE
d. Assignment of License or Transfer of Control | 702 & 159 or 703 & 159 | 60.00 | EAE
e. Special Temporary Authority | Corres & 159 | 60.00 | EAE
f. Additional fee required for any of the above applications that request withholding from public inspection | Corres & 159 | 60.00 | EAE

10. Section 1.1104 is revised to read as follows:

§ 1.1104 Schedule of charges for applications and other filings for media services.

Remit manual filings and/or payment for these services to the: Federal Communications Commission, Media Bureau Services, P.O. Box 979089, St. Louis, MO 63197-9000.

Service | FCC form No. | Fee amount | Payment type code
1. Commercial TV Services
a. New and Major Change Construction Permits (per application) (Electronic Filing) | 301 & 159 | $4,005.00 | MVT
b. Minor Change (per application) (Electronic Filing) | 301 & 159 | 895.00 | MPT
c. Main Studio Request | Corres & 159 | 895.00 | MPT
d. New License (per application) (Electronic Filing) | 302-TV & 159 302-DTV & 159 | 270.00 | MJT
e. License Renewal (per application) (Electronic Filing) | 303-S & 159 | 160.00 | MGT
f. License Assignment (i) Long Form (Electronic Filing) | 314 & 159 | 895.00 | MPT*
(ii) Short Form (Electronic Filing) | 316 & 159 | 130.00 | MDT*
g. Transfer of Control (i) Long Form (Electronic Filing) | 315 & 159 | 895.00 | MPT*
(ii) Short Form (Electronic Filing) | 316 & 159 | 130.00 | MDT*
h. Call Sign (Electronic Filing) | 380 & 159 | 90.00 | MBT
i. Special Temporary Authority | Corres & 159 | 160.00 | MGT
j. Petition for Rulemaking for New Community of License (Electronic Filing) | 301 & 159 302-TV & 159 | 2,475.00 | MRT
k. Ownership Report (Electronic Filing) | 323 & 159 Corres & 159 | 60.00 | MAT*
2. Commercial AM Radio Stations
a. New or Major Change Construction Permit (Electronic Filing) | 301 & 159 | 3,565.00 | MUR
b. Minor Change (per application) (Electronic Filing) | 301 & 159 | 895.00 | MPR
c. Main Studio Request (per request) | Corres & 159 | 895.00 | MPR
d. New License (per application) (Electronic Filing) | 302-AM & 159 | 585.00 | MMR
e. AM Directional Antenna (per application) (Electronic Filing) | 302-AM & 159 | 675.00 | MOR
f. AM Remote Control (per application) (Electronic Filing) | 301 & 159 | 60.00 | MAR
g. License Renewal (per application) (Electronic Filing) | 303-S & 159 | 160.00 | MGR
h. License Assignment (i) Long Form (Electronic Filing) | 314 & 159 | 895.00 | MPR*
(ii) Short Form (Electronic Filing) | 316 & 159 | 130.00 | MDR*
i. Transfer of Control (i) Long Form (Electronic Filing) | 315 & 159 | 895.00 | MPR*
(ii) Short Form (Electronic Filing) | 316 & 159 | 130.00 | MDR*
j. Call Sign (Electronic Filing) | 380 & 159 | 90.00 | MBR
k. Special Temporary Authority | Corres & 159 | 160.00 | MGR
l. Ownership Report (Electronic Filing) | 323 & 159 or Corres & 159 | 60.00 | MAR
3. Commercial FM Radio Stations
a. New or Major Change Construction Permit (Electronic Filing) | 301 & 159 | 3,210.00 | MTR
b. Minor Change (Electronic Filing) | 301 & 159 | 895.00 | MPR
c. Main Studio Request (per request) | Corres & 159 | 895.00 | MPR
d. New License (Electronic Filing) | 302-FM & 159 | 185.00 | MHR
e. FM Directional Antenna (Electronic Filing) | 302-FM & 159 | 565.00 | MLR
f. License Renewal (per application) (Electronic Filing) | 303-S &159 | 160.00 | MGR
g. License Assignment (i) Long Form (Electronic Filing) | 314 & 159 | 895.00 | MPR*
(ii) Short Form (Electronic Filing) | 316 & 159 | 130.00 | MDR*
h. Transfer of Control (i) Long Form (Electronic Filing) | 315 & 159 | 895.00 | MPR*
(ii) Short Form (Electronic Filing) | 316 & 159 | 130.00 | MDR*
i. Call Sign (Electronic Filing) | 380 & 159 | 90.00 | MBR
j. Special Temporary Authority | Corres & 159 | 160.00 | MGR
k. Petition for Rulemaking for New Community of License or Higher Class Channel (Electronic Filing) | 301 & 159 or 302-FM & 159 | 2,475.00 | MRR
l. Ownership Report (Electronic Filing) | 323 & 159 or Corres & 159 | 60.00 | MAR
4. FM Translators
a. New or Major Change Construction Permit (Electronic Filing) | 349 & 159 | 675.00 | MOF
b. New License (Electronic Filing) | 350 & 159 | 135.00 | MEF
c. License Renewal (Electronic Filing) | 303-S & 159 | 60.00 | MAF
d. Special Temporary Authority | Corres & 159 | 160.00 | MGF
e. License Assignment (Electronic Filing) | 345 & 159 314 & 159 316 & 159 | 130.00 | MDF*
f. Transfer of Control (Electronic Filing) | 345 & 159 315 & 159 316 & 159 | 130.00 | MDF*
5. TV Translators and LPTV Stations
a. New or Major Change Construction Permit (per application) (Electronic Filing) | 346 & 159 | 675.00 | MOL
b. New License (per application) (Electronic Filing) | 347 & 159 | 135.00 | MEL
c. License Renewal (Electronic Filing) | 303-S & 159 | 60.00 | MAL*
d. Special Temporary Authority | Corres & 159 | 160.00 | MGL
e. License Assignment (Electronic Filing) | 345 & 159 314 & 159 316 & 159 | 130.00 | MDL*
f. Transfer of Control (Electronic Filing) | 345 & 159 315 & 159 316 & 159 | 130.00 | MDL*
g. Call Sign (Electronic Filing) | 380 & 159 | 90.00 | MBT
6. FM Booster Stations
a. New or Major Change Construction Permit (Electronic Filing) | 349 & 159 | 675.00 | MOF
b. New License (Electronic Filing) | 350 & 159 | 135.00 | MEF
c. Special Temporary Authority | Corres & 159 | 160.00 | MGF
7. TV Booster Stations
a. New or Major Change (Electronic Filing) | 346 & 159 | 675.00 | MOF
b. New License (Electronic Filing) | 347 & 159 | 135.00 | MEFI
c. Special Temporary Authority | Corres & 159 | 160.00 | MGF
8. Class A TV Services
a. New and Major Change Construction Permits (per application) (Electronic Filing) | 301-CA & 159 | 4,005.00 | MVT
b. New License (per application) (Electronic Filing) | 302-CA & 159 | 270.00 | MJT
c. License Renewal (per application) (Electronic Filing) | 303S & 159 | 160.00 | MGT
d. Special Temporary Authority | Corres & 159 | 160.00 | MGT
e. License Assignment (i) Long Form (Electronic Filing) | 314 & 159 | 895.00 | MPT*
(ii) Short Form (Electronic Filing) | 316 & 159 | 130.00 | MDT
f. Transfer of Control (i) Long Form (Electronic Filing) | 315 & 159 | 895.00 | MPT*
(ii) Short Form (Electronic Filing) | 316 & 159 | 130.00 | MDT*
g. Main Studio Request | Corres & 159 | 895.00 | MPT
h. Call Sign (Electronic Filing) | 380 & 159 | 90.00 | MBT
9. Cable Television Services
a. CARS License | 327 & 159 | 245.00 | TIC
b. CARS Modifications | 327 & 159 | 245.00 | TIC
c. CARS License Renewal (Electronic Filing) | 327 & 159 | 245.00 | TIC
d. CARS License Assignment | 327 & 159 | 245.00 | TIC
e. CARS Transfer of Control | 327 & 159 | 245.00 | TIC
f. Special Temporary Authority | Corres & 159 | 160.00 | TGC
g. Cable Special Relief Petition | Corres & 159 | 1,250.00 | TQC
h. Cable Community Registration (Electronic Filing) | 322 & 159 | 60.00 | TAC
i. Aeronautical Frequency Usage Notifications (Electronic Filing) | 321 & 159 | 60.00 | TAC

11. Section 1.1105 is revised to read as follows:

§ 1.1105 Schedule of charges for applications and other filings for the wireline competition services.

Remit manual filings and/or payment for these services to the: Federal Communications Commission, Wireline Competition Bureau Applications, P.O. Box 979091, St. Louis, MO 63197-9000.

Service | FCC form No. | Fee amount | Payment type code
1. Domestic 214 Applications
a. Domestic Cable Construction | Corres & 159 | $965.00 | CUT
b. Other | Corres & 159 | 965.00 | CUT
2. Tariff Filings
a. Filing Fees (per transmittal or cover letter) | Corres & 159 | 775.00 | CQK
b. Application for Special Permission Filing (request for waiver of any rule in Part 61 of the Commission's Rules) (per request) | Corres & 159 | 775.00 | CQK
c. Waiver of Part 69 Tariff Rules (per request) | Corres & 159 | 775.00 | CQK
3. Accounting
a. Review of Depreciation Update Study (single state) | Corres & 159 | 32,680.00 | BKA
(i) Each Additional State | Corres & 159 | 1,075.00 | CVA
b. Petition for Waiver (per petition) Waiver of Part 69 Accounting Rules & Part 32 Accounting Rules, Part 36 Separation Rules, Part 43 Reporting Requirements, Part 64 Allocation of Costs Rules, Part 65 Rate of Return & Rate Base Rules | Corres & 159 | 7,365.00 | BEA

12. Section 1.1106 is revised to read as follows:

§ 1.1106 Schedule of charges for applications and other filings for the enforcement services.

Remit manual filings and/or payment for these services to the: Federal Communications Commission, Enforcement Bureau, P.O. Box 979094, St. Louis, MO 63197-9000 with the exception of Accounting and Audits, which will be invoiced. Carriers should follow invoice instructions when making payment.

Service | FCC form No. | Fee amount | Payment type code
1. Formal Complaints | Corres & 159 | $190.00 | CIZ
2. Accounting and Audits
a. Field Audit | Carriers will be invoiced for the amount due | 98,400.00 | BMA
b. Review of Attest Audit | Carriers will be invoiced for the amount due | 53,710.00 | BLA
3. Development and Review of Agreed upon—Procedures Engagement | Corres & 159 | 53,710.00 | BLA
4. Pole Attachment Complaint | Corres & 159 | 240.00 | TPC

13. Section 1.1107 is revised to read as follows:

§ 1.1107 Schedule of charges for applications and other filings for the international services.

Remit manual filings and/or payment for these services to the: Federal Communications Commission, International Bureau Applications, P.O. Box 979093, St. Louis, MO 63197-9000.

Service | FCC form No. | Fee amount | Payment type code
1. International Fixed Public Radio
(Public & Control Stations)
a. Initial Construction Permit (per station) | 407 & 159 | $810.00 | CSN
b. Assignment or Transfer (per Application) | 702 & 159 or 704 & 159 | 810.00 | CSN
c. Renewal (per license ) | 405 & 159 | 585.00 | CON
d. Modification (per station) | 403 & 159 | 585.00 | CON
e. Extension of Construction Authorization (per station) | 701 & 159 | 295.00 | CKN
f. Special Temporary Authority or request for Waiver (per request) | Corres & 159 | 295.00 | CKN
2. Section 214 Applications
a. Overseas Cable Construction | Corres & 159 | 14,415.00 | BIT
b. Cable Landing License (i) Common Carrier | Corres & 159 | 1,620.00 | CXT
(ii) Non-Common Carrier | Corres & 159 | 16,035.00 | BJT
c. All other International 214 Applications | Corres & 159 | 965.00 | CUT
d. Special Temporary Authority (all services) | Corres & 159 | 965.00 | CUT
e. Assignments or transfers (all services) | Corres & 159 | 965.00 | CUT
3. Fixed Satellite Transmit/Receive Earth Stations
a. Initial Application (per station) | 312 Main & Schedule B & 159 | 2,410.00 | BAX
b. Modification of License (per station) | 312 Main & Schedule B & 159 | 170.00 | CGX
c. Assignment or Transfer (i) First Station | 312 Main & Schedule A & 159 | 475.00 | CNX
(ii) Each Additional Station | Attachment to 312—Schedule A | 160.00 | CFX
d. Renewal of License (per station ) | 312-R & 159 | 170.00 | CGX
e. Special Temporary Authority (per request) | 312 Main & Corres & 159 | 170.00 | CGX
f. Amendment of Pending Application (per station) | 312 Main & Schedule B & 159 | 170.00 | CGX
g. Extension of Construction Permit (modification) (per station) | 312 Main & 159 | 170.00 | CGX
4. Fixed Satellite transmit/receive Earth Stations (2 meters or less operating in the 4/6 GHz frequency band)
a. Lead Application | 312 Main & Schedule B & 159 | 5,340.00 | BDS
b. Routine Application (per station) | 312 Main & Schedule B & 159 | 60.00 | CAS
c. Modification of License (per station) | 312 Main & Schedule B & 159 | 170.00 | CGS
d. Assignment or Transfer (i) First Station | 312 Main & Schedule A & 159 | 475.00 | CNS
(ii) Each Additional Station | Attachment to 312—Schedule A | 60.00 | CAS
e. Renewal of License (per station) | 312-R & 159 | 170.00 | CGS
f. Special Temporary Authority (per request) | 312 Main & 159 | 170.00 | CGS
g. Amendment of Pending Application (per station) | 312 Main & Schedule A or B & 159 | 170.00 | CGS
h. Extension of Construction Permit (modification) (per station ) | 312 & 159 | 170.00 | CGS
5. Receive Only Earth Stations
a. Initial Applications for Registration or License (per station) | 312 Main & Schedule B & 159 | 365.00 | CMO
b. Modification of License or Registration (per station) | 312 Main & Schedule B & 159 | 170.00 | CGO
c. Assignment or Transfer (i) First Station | 312 Main & Schedule A & 159 | 475.00 | CNO
(ii) Each Additional Station | Attachment to 312—Schedule A | 160.00 | CFO
d. Renewal of License (per station) | 312-R & 159 | 170.00 | CGO
e. Amendment of Pending Application (per station) | 312 Main & Schedule A or B & 159 | 170.00 | CGO
f. Extension of Construction Permit (modification) (per station) | 312 Main & 159 | 170.00 | CGO
g. Waivers (per request) | Corres & 159 | 170.00 | CGO
6. Fixed Satellite Very Small Aperture Terminal (VSAT) Systems
a. Initial Application (per station) | 312 Main & Schedule B & 159 | 8,895.00 | BGV
b. Modification of License (per system) | 312 Main & Schedule B & 159 | 170.00 | CGV
c. Assignment or Transfer of System | 312 Main & Schedule A & 159 | 2,380.00 | CZV
d. Renewal of License (per system) | 312-R & 159 | 170.00 | CGV
e. Special Temporary Authority (per request) | 312 & 159 | 170.00 | CGV
f. Amendment of Pending Application (per system) | 312 Main & Schedule A or B & 159 | 170.00 | CGV
g. Extension of Construction Permit (modification) (per system) | 312 & 159 | 170.00 | CGV
7. Mobile Satellite Earth Stations
a. Initial Applications of Blanket Authorization | 312 Main & Schedule B & 159 | 8,895.00 | BGB
b. Initial Application for Individual Earth Station | 312 Main & Schedule B & 159 | 2,135.00 | CYB
c. Modification of License (per system) | 312 Main & Schedule B & 159 | 170.00 | CGB
d. Assignment or Transfer (per system) | 312 Main & Schedule A & 159 | 2,380.00 | CZB
e. Renewal of License (per system) | 312-R & 159 | 170.00 | CGB
f. Special Temporary Authority (per request) | 312 & 159 | 170.00 | CGB
g. Amendment of Pending Application (per system) | 312 Main & Schedule B & 159 | 170.00 | CGB
h. Extension of Construction Permit (modification) (per system) | 312 & 159 | 170.00 | CGB
8. Space Stations (Geostationary)
a. Application for Authority to Launch & Operate (per satellite) (i) Initial Application | 312 Main & Schedule S & 159 | 110,580.00 | BNY
(ii) Replacement Satellite | 312 Main & Schedule S & 159 | 110,580.00 | BNY
b. Assignment or Transfer (per satellite) | 312 Main & Schedule A & 159 | 7,900.00 | BFY
c. Modification (per satellite) | 312 Main & Schedule S (if needed) & 159 | 7,900.00 | BFY
d. Special Temporary Authority (per satellite) | 312 & 159 | 790.00 | CRY
e. Amendment of Pending Application (per satellite) | 312 Main & Schedule S (if needed) & 159 | 1,580.00 | CWY
f. Extension of Launch Authority (per satellite) | 312 Main & Corres & 159 | 790.00 | CRY
9. Space Stations (NGSO)
a. Application for Authority to Launch & Operate (per system of technically identical satellites) satellites | 312 Main & Schedule S & 159 | 380,835.00 | CLW
b. Assignment or Transfer (per system) | 312 Main & Schedule A & 159 | 10,885.00 | CZW
c. Modification (per system) | 312 Main & Schedule S (if needed) & 159 | 27,205.00 | CGW
d. Special Temporary Authority (per request) | Corres & 159 | 2,725.00 | CXW
e. Amendment of Pending Application (per request) | 312 Main & Schedule S & 159 | 5,445.00 | CAW
f. Extension of Launch Authority (per system) | 312 Main & 159 | 2,725.00 | CXW
10. Direct Broadcast Satellites
a. Authorization to Construct or Major Modification (per satellite) | 312 Main & Schedule S & 159 | 3,210.00 | MTD
b. Construction Permit and Launch Authority (per satellite) | 312 Main & Schedule S & 159 | 31,140.00 | MXD
c. License to Operate (per satellite) | 312 Main & Schedule S & 159 | 895.00 | MPD
d. Special Temporary Authority (per satellite) | 312 Main & 159 | 160.00 | MGD
11. International Broadcast Stations
a. New Station & Facilities Change Construction Permit (per application) | 309 & 159 | 2,695.00 | MSN
b. New License (per application) | 310 & 159 | 610.00 | MNN
c. License Renewal (per application) | 311 & 159 | 155.00 | MFN
d. License Assignment or Transfer of Control (per station license) | 314 & 159 or 315 & 159 or 316 & 159 | 95.00 | MCN
e. Frequency Assignment & Coordination (per frequency hour) | Corres & 159 | 60.00 | MAN
f. Special Temporary Authorization (per application) | Corres & 159 | 160.00 | MGN
12. Permit to Deliver Programs to Foreign Broadcast Stations (per application)
a. Commercial Television Stations | 308 & 159 | 90.00 | MBT
b. Commercial AM or FM Radio Stations | 308 & 159 | 90.00 | MBR
13. Recognized Operating Agency (per application) | Corres & 159 | 965.00 | CUG

14. Section 1.1108 is revised to read as follows:

§ 1.1108 Schedule of charges for applications and other filings for the international telecommunication services.

Remit payment (along with a copy of invoice) for these services to the: Federal Communications Commission, International Telecommunication Fees, P.O. Box 979096, St. Louis, MO 63197-9000

1. Administrative Fee | 99 & 99A | $2.00 | IAT
2. Telecommunication Charges | 99 & 99A |  | ITTS

15. Section 1.1109 is revised to read as follows:

§ 1.1109 Schedule of charges for applications and other filings for the Homeland services.

Remit manual filings and/or payment for these services to the: Federal Communications Commission, Homeland Bureau Applications, P.O. Box 979092, St. Louis, MO 63197-9000.

1. Communication Assistance for Law Enforcement (CALEA)
Petitions | Corres & 159 | $5,605.00 | CLEA

16. Section 1.1152 is revised to read as follows:

§ 1.1152 Schedule of annual regulatory fees and filing locations for all Bureaus and services (except those fees for the small wireless services which are paid at the time of renewal).

Remit FCC Form 159 and payment to Federal Communications Commission, P.O. Box 979084, St. Louis, MO 63197-9000.

Exclusive use services (per license) | Fee amount ²
1. Land Mobile (Above 470 MHz and 220 MHz Local, Base Station & SMRS) (47 CFR, Part 90)
(a) New, Renew/Mod (FCC 601 & 159) | $35.00
(b) New, Renew/Mod (Electronic Filing) (FCC 601 & 159) | 35.00
(c) Renewal Only (FCC 601 & 159) | 35.00
(d) Renewal Only (Electronic Filing) (FCC 601 & 159) | 35.00
220 MHz Nationwide
(a) New, Renew/Mod (FCC 601 & 159) | 35.00
(b) New, Renew/Mod (FCC 601 & 159) | 35.00
(c) Renewal Only (FCC 601 & 159) | 35.00
(d) Renewal Only (Electronic Filing) (FCC 601 & 159) | 35.00
2. Microwave (47 CFR Pt. 101) (Private)
(a) New, Renew/Mod (FCC 601 & 159) | 40.00
(b) New, Renew/Mod (Electronic Filing) (FCC 601 & 159) | 40.00
(c) Renewal Only (FCC 601 & 159) | 40.00
(d) Renewal Only (Electronic Filing) (FCC 601 & 159) | 40.00
3. 218-219 MHz Service
(a) New, Renew/Mod (FCC 601 & 159) | 55.00
(b) New, Renew/Mod (Electronic Filing) (FCC 601 & 159) | 55.00
(c) Renewal Only (FCC 601 & 159) | 55.00
(d) Renewal Only (Electronic Filing) (FCC 601 & 159) | 55.00
4. Shared Use Services Land Mobile (Frequencies Below 470 MHz—except 220 MHz)
(a) New, Renew/Mod (FCC 601 & 159) | 15.00
(b) New, Renew/Mod (Electronic Filing) (FCC 601 & 159) | 15.00
(c) Renewal Only (FCC 601 & 159) | 15.00
(d) Renewal Only (Electronic Filing) (FCC 601 & 159) | 15.00
General Mobile Radio Service
(a) New, Renew/Mod (FCC 605 & 159) | 5.00
(b) New, Renew/Mod (Electronic Filing) (FCC 605 & 159) | 5.00
(c) Renewal Only (FCC 605 & 159) | 5.00
(d) Renewal Only (Electronic Filing) (FCC 605 & 159) | 5.00
Rural Radio (Part 22)
(a) New, Additional Facility, Major Renew/Mod (Electronic Filing) (FCC 601 & 159) | 15.00
(b) Renewal, Minor Renew/Mod (Electronic Filing) (FCC 601 & 159) | 15.00
Marine Coast
(a) New Renewal/Mod (FCC 601 & 159) | 30.00
(b) New, Renewal/Mod P.O. Box 358994 (FCC 601 & 159) | 30.00
(c) Renewal Only (FCC 601 & 159) | 30.00
(d) Renewal Only (Electronic Filing) (FCC 601 & 159) | 30.00
Aviation Ground
(a) New, Renewal/Mod (FCC 601 & 159) | 10.00
(b) New, Renewal/Mod (Electronic Filing) (FCC 601 & 159) | 10.00
(c) Renewal Only (FCC 601 & 159) | 10.00
(d) Renewal Only (Electronic Only) (FCC 601 & 159) | 10.00
Marine Ship
(a) New, Renewal/Mod (FCC 605 & 159) | 10.00
(b) New, Renewal/Mod (Electronic Filing) (FCC 605 & 159) | 10.00
(c) Renewal Only (FCC 605 & 159) | 10.00
(d) Renewal Only (FCC 605 & 159)
Aviation Aircraft | 10.00
(a) New, Renew/Mod (FCC 605 & 159) | 5.00
(b) New, Renew/Mod (Electronic Filing) (FCC 605 & 159) | 5.00
(c) Renewal Only (FCC 605 & 159) | 5.00
(d) Renewal Only (Electronic Filing) (FCC 605 & 159) | 5.00
5. Amateur Vanity Call Signs
(a) Initial or Renew (FCC 605 & 159) | 1.17
(b) Initial or Renew (Electronic Filing) (FCC 605 & 159) | 1.17
6. CMRS Mobile Services (per unit)
(FCC 159) | ³.18
7. CMRS Messaging Services (per unit)
(FCC 159) | ⁴.08
8. Broadband Radio Service (formerly MMDS and MDS) | 325
9. Local Multipoint Distribution Service | 325
² Note that “small fees” are collected in advance for the entire license term. Therefore, the annual fee amount shown in this table that is a small fee (categories 1 through 5) must be multiplied by the 5- or 10-year license term, as appropriate, to arrive at the total amount of regulatory fees owed. It should be further noted that application fees may also apply as detailed in § 1.1102 of this chapter.
³ These are standard fees that are to be paid in accordance with § 1.1157(b) of this chapter.
⁴ These are standard fees that are to be paid in accordance with § 1.1157(b) of this chapter.

17. Section 1.1153 is revised to read as follows:

§ 1.1153 Schedule of annual regulatory fees for mass media services.

Radio [AM and FM] (47 CFR, part 73) | Fee amount
1. AM Class A
<=25,000 population | $625
25,001-75,000 population | 1,225
75,001-150,000 population | 1,825
150,001-500,000 population | 2,750
500,001-1,200,000 population | 3,950
1,200,001-3,000,000 population | 6,075
>3,000,000 population | 7,275
2. AM Class B
<=25,000 population | 475
25,001-75,000 population | 925
75,001-150,000 population | 1,150
150,001-500,000 population | 1,950
500,001-1,200,000 population | 2,975
1,200,001-3,000,000 population | 4,575
>3,000,000 population | 5,475
3. AM Class C
<=25,000 population | 400
25,001-75,000 population | 600
75,001-150,000 population | 800
150,001-500,000 population | 1,200
500,001-1,200,000 population | 2,000
1,200,001-3,000,000 population | 3,000
>3,000,000 population | 3,800
4. AM Class D
<=25,000 population | 475
25,001-75,000 population | 725
75,001-150,000 population | 1,200
150,001-500,000 population | 1,425
500,001-1,200,000 population | 2,375
1,200,001-3,000,000 population | 3,800
>3,000,000 population | 4,750
5. AM Construction Permit | 400
6. FM Classes A, B1 and C3
<=25,000 population | 575
25,001-75,000 population | 1,150
75,001-150,000 population | 1,600
150,001-500,000 population | 2,475
500,001-1,200,000 population | 3,900
1,200,001-3,000,000 population | 6,350
>3,000,000 population | 8,075
7. FM Classes B, C, C0, C1 and C2
<=25,000 population | 725
25,001-75,000 population | 1,250
75,001-150,000 population | 2,300
150,001-500,000 population | 3,000
500,001-1,200,000 population | 4,400
1,200,001-3,000,000 population | 7,025
>3,000,000 population | 9,125
8. FM Construction Permits | 575
TV (47 CFR, Part 73) VHF Commercial
1. Markets 1 thru 10 | 64,300
2. Markets 11 thru 25 | 46,350
3. Markets 26 thru 50 | 31,075
4. Markets 51 thru 100 | 20,000
5. Remaining Markets | 5,125
6. Construction Permits | 5,125
UHF Commercial
1. Markets 1 thru 10 | 19,650
2. Markets 11 thru 25 | 19,450
3. Markets 26 thru 50 | 10,800
4. Markets 51 thru 100 | 6,300
5. Remaining Markets | 1,750
6. Construction Permits | 1,750
Satellite UHF/VHF Commercial
1. All Markets | 1,100
2. Construction Permits | 550
Low Power TV, Class A TV, TV/FM Translator, & TV/FM Booster (47 CFR Part 74) | 345
Broadcast Auxiliary | 10

18. Section 1.1154 is revised to read as follows:

§ 1.1154 Schedule of annual regulatory charges for common carrier services.

Radio facilities | Fee amount
1. Microwave (Domestic Public Fixed) (Electronic Filing) (FCC Form 601 & 159) | $40.00
Carriers
1. Interstate Telephone Service Providers (per interstate and international end-user revenues (see FCC Form 499-A) | .00266

19. Section 1.1155 is revised to read as follows:

§ 1.1155 Schedule of regulatory fees for cable television services.

| Fee amount
1. Cable Television Relay Service | $185
2. Cable TV System (per subscriber) | .75

20. Section 1.1156 is revised to read as follows:

§ 1.1156 Schedule of regulatory fees for international services.

Radio facilities | Fee amount
1. International (HF) Broadcast | $795
2. International Public Fixed | 1,875
Space Stations (Geostationary Orbit) | 109,200
Space Stations (Non-Geostationary Orbit) | 116,475
Earth Stations
Transmit/Receive & Transmit Only (per authorization or registration) | 185
Carriers
International Bearer Circuits (per active 64KB circuit or equivalent) | 1.05

21. Section 1.1166 is amended by revising the second sentence of paragraph (d) to read as follows:

§ 1.1166 Waivers, reductions and deferrals of regulator fees.

* * * * *

(d) * * * Petitions for reduction accompanied by a fee payment must be addressed to the Federal Communications Commission, Attention: Petitions, Post Office Box 979084, St. Louis, Missouri, 63197-9000. * * *

22. Section 1.10001 is amended by revising the table in the definition of “All Other Applications” and placing it in alphabetical order to read as follows:

§ 1.1001 Definitions.

All Other Applications. * * *

1. You file your Satellite Space Station Application (other than DBS and DARS) or your Application for Earth Stations to Access a Non-U.S. Satellite Not Currently Authorized to provide the Proposed Service in the Proposed Frequencies in the United States in IBFS | Your official filing date is the date and time (to the millisecond) you file your application and receive a confirmation of filing and submission ID.
2. You file all other applications in IBFS and then do one of the following: | Your official filing date is:
Send your payment (via check, bank draft, money order, credit card, or wire transfer) and FCC Form 159 to U.S. Bank | The date U.S. Bank stamps your payment as received.
Pay by online credit card (through IBFS) | The date your online credit card payment is approved. (Note: You will receive a remittance ID and an authorization number if your transaction is successful).
Determine your application type is fee-exempt or your application qualifies for exemption to charges as provided in Part 1 of the Commission's Rules | The date you file in IBFS and receive a confirmation of filing and submission ID.

* * * * *

23. Revise § 1.10009 to read as follows:

§ 1.10009 What are the steps for electronic filing?

(a) Step 1: Register for an FCC Registration Number (FRN). (See Subpart W, §§ 1.8001 through 1.8004.)

(1) If you already have an FRN, go to Step 2.

(2) In order to process your electronic application, you must have an FRN. You may obtain an FRN either directly from the Commission Registration System (CORES) at http://www.fcc.gov/e-file/, or through IBFS as part of your filing process. If you need to know more about who needs an FRN, visit CORES at http://www.fcc.gov/e-file/.

(3) If you are a(n):

(i) Applicant,

(ii) Transferee and assignee,

(iii) Transferor and assignor,

(iv) Licensee/Authorization Holder, or

(v) Payer, you are required to have and use an FRN when filing applications and/or paying fees through IBFS.

(4) We use your FRN to give you secured access to IBFS and to pre-fill the application you file.

(b) Step 2: Register with IBFS.

(1) If you are already registered with IBFS, go to Step 3.

(2) In order to complete and file your electronic application, you must register in IBFS, located at http://www.fcc.gov/ibfs.

(3) You can register your account in:

(i) Your name,

(ii) Your company's name, or

(iii) Your client's name.

(4) IBFS will issue you an account number as part of the registration process. You will create your own password.

(5) If you forget your password, send an e-mail to the IBFS helpline at ibfsinfo@fcc.gov or contact the helpline at (202) 418-2222 for assistance.

(c) Step 3: Log into IBFS, select the application you want to file, provide the required FRN(s) and password(s) and fill out your application. You must completely fill out forms and provide all requested information as provided in parts 1, 25, 63 and 64 of this chapter.

(1) You must provide an address where you can receive mail delivery by the United States Postal Service. You are also encouraged to provide an e-mail address. This information is used to contact you regarding your application and to request additional documentation, if necessary.

(2) Reference to material on file. You must answer questions on application forms that call for specific technical data, or that require yes or no answers or other short answers. However, if documents or other lengthy showings are already on file with us and contain the required information, you may incorporate the information by reference, as long as:

(i) The referenced information is filed in IBFS or, if manually filed, the information is more than one “8½ inch by 11 inch” page.

(ii) The referenced information is current and accurate in all material respects; and

(iii) The application states where we can find the referenced information as well as:

(A) The application file number, if the reference is to previously-filed applications

(B) The title of the proceeding, the docket number, and any legal citation, if the reference is to a docketed proceeding.

(d) Step 4: File your application. If you file your application successfully through IBFS, a confirmation screen will appear showing you the date and time of your filing and your submission ID. Print this verification for your records as proof of online filing.

(e) Step 5: Pay for your application.

(1) Most applications require that you pay a fee to us before we can begin processing your application. You can determine the amount of your fee in three ways:

(i) You can refer to § 1.1107,

(ii) You can refer to the International and Satellite Services fee guide located at http://www.fcc.gov/fees/appfees.html, or

(iii) You can run a draft Form 159 through IBFS, in association with a filed application, and the system will automatically enter your required fee on the form.

(2) A complete FCC Form 159 must accompany all fee payments. You must provide the FRN for both the applicant and the payer. You also must include your IBFS Submission ID number on your FCC Form 159 in the box labeled “FCC Code 2.” In addition, for applications for transfer of control or assignment of license, call signs involved in the transaction must be entered into the “FCC Code 1” box on the FCC Form 159. (This may require the use of multiple rows on the FCC Form 159 for a single application where more than one call sign is involved.)

(i) You may use a paper version of FCC Form 159, or

(ii) You can generate a pre-filled FCC Form 159 from IBFS using your IBFS Submission ID. For specific instructions on using IBFS to generate your FCC Form 159, go to the IBFS Web site (http://www.fcc.gov/ibfs) and click on the “Getting Started” button.

(3) You have 3 payment options:

(i) Pay by credit card (through IBFS or by regular mail),

(ii) Pay by check, bank draft or money order, or

(iii) Pay by wire transfer or other electronic payments.

(4) You have 14 calendar days from the date you file your application in IBFS to submit your fee payment to U.S. Bank. Your FCC Form 159 must be stamped “received” by U.S. Bank by the 14th day. If not, we will dismiss your application.

(5) If you send your Form 159 and payment to U.S. Bank in paper form, you should mail your completed Form 159 and payment to the address specified in § 1.1107 of the Commission's rules. If you file electronically, do not send copies of your application with your payment and Form 159.

(6) For more information on fee payments, refer to Payment Instructions found on the IBFS Internet site at http://www.fcc.gov/ibfs.

(7) Step 5 is not applicable if your application is fee exempt.

PART 2—FREQUENCY ALLOCATIONS AND RADIO TREATY MATTERS; GENERAL RULES AND REGULATIONS

24. The authority citation for Part 2 continues to read as follows:

Authority: 47 U.S.C. 154, 302(a), 303, and 336, unless otherwise noted.

Subpart J—Equipment Authorization Procedures

25. Section 2.913 is amended by revising the second and third sentences of paragraph (b) to read as follows:

§ 2.913 Submittal of equipment authorization application or information to the Commission.

* * * * *

(b) * * * The address for fees submitted by mail is: Federal Communications Commission, Equipment Approval Services, P.O. Box 979095, St. Louis, MO 63197-9000. If the applicant chooses to make use of an air courier/package delivery service, the following address must appear on the outside of the package/envelope: Federal Communications Commission, c/o Lockbox 979095, SL-MO-C2-GL, 1005 Convention Plaza, St. Louis, MO 63101.

* * * * *

PART 61—TARIFFS

28. The authority citation for part 61 continues to read as follows:

Authority: Secs. 1, 4(i), 4(j), 201-205 and 403 of the Communications Act of 1934, as amended; 47 U.S.C. 151, 154(i), 154(j), 201-205 and 403, unless otherwise noted.

Subpart B—Rules for Electronic Filing

27. Section 61.14 is amended by revising paragraph (b)(1) and (b)(2)(i) to read as follows:

§ 61.14 Method of filing publications.

* * * * *

(b)(1) In addition, except for issuing carriers filing tariffing fees electronically, for all tariff publications requiring fees as set forth in part 1, subpart G of this chapter, issuing carriers must submit the original of the cover letter (without attachments), FCC Form 159, and the appropriate fee to the U.S. Bank, St. Louis, Missouri at the address set forth in § 1.1105 of this chapter.

(2) * * *

(i) Issuing carriers submitting tariffing fees electronically may submit a paper copy of the Form 159, and the original transmittal letter to the Secretary of the Commission in lieu of the U.S. Bank, or;

* * * * *

28. Section 61.17 is amended by revising the first two sentences of paragraph (b) to read as follows:

§ 61.17 Method of filing applications for special permission.

* * * * *

(b) In addition, except for issuing carriers filing tariffing fees electronically, for special permission applications requiring fees as set forth in part 1, subpart G of this chapter, issuing carriers must submit the original of the application letter (without attachments), FCC Form 159, and the appropriate fee to the U.S. Bank, St. Louis, Missouri, at the address set forth in § 1.1105 of this chapter. Issuing carriers submitting tariffing fees electronically should submit a copy of the Form 159 and the original application letter to the Secretary of the Commission in lieu of the U.S. Bank. * * *

* * * * *

Subpart C—General Rules for Nondominant Carriers

29. Section 61.20 is amended by revising the first two sentences of paragraph (b)(1) to read as follows:

§ 61.20 Method of filing publications.

* * * * *

(b)(1) In addition, except for issuing carriers filing tariffing fees electronically, for all tariff publications requiring fees as set forth in part 1, subpart G of this chapter, issuing carriers must submit the original of the cover letter (without attachments), FCC Form 159, and the appropriate fee to the U.S. Bank, St. Louis, Missouri at the address set forth in § 1.1105 of this chapter. Issuing carriers submitting tariffing fees electronically should submit the Form 159 and the original cover letter to the Secretary of the Commission in lieu of the U.S. Bank. * * *

* * * * *

Subpart D—General Tariff Rules for International Dominant Carriers

30. Section 61.32 is amended by revising the first two sentences of paragraph (b) to read as follows:

§ 61.32 Method of filing publications.

* * * * *

(b) In addition, except for issuing carriers filing tariffing fees electronically, for all tariff publications requiring fees as set forth in part 1, subpart G of this chapter, issuing carriers must submit the original of the transmittal letter (without attachments), FCC Form 159, and the appropriate fee to the U.S. Bank, St. Louis, Missouri, at the address set forth in § 1.1105 of this chapter. Issuing carriers submitting tariffing fees electronically should submit the Form 159 and the original cover letter to the Secretary of the Commission in lieu of the U.S. Bank. * * *

* * * * *

Subpart H—Applications for Special Permission

31. Section 61.153 is amended by revising the first two sentences of paragraph (b) to read as follows:

§ 61.153 Method of filing applications.

* * * * *

(b) In addition, except for issuing carriers filing tariffing fees electronically, for all special permission applications requiring fees as set forth in part 1, subpart G of this chapter, the issuing carrier must submit the original of the application letter (without attachments), FCC Form 159, and the appropriate fee to the U.S. Bank, St. Louis, Missouri at the address set forth in § 1.1105 of this chapter. Issuing carriers submitting tariffing fees electronically should submit the Form 159 and the original cover letter to the Secretary of the Commission in lieu of the U.S. Bank. * * *

* * * * *

PART 64—MISCELLANEOUS RULES RELATING TO COMMON CARRIERS

32. The authority citation for part 64 continues to read as follows:

Authority: 47 U.S.C. 154, 254(k); secs. 403(b)(2)(B), (c), Pub. L. 104-104, 110 Stat. 56. Interpret or apply 47 U.S.C. 201, 218, 222, 225, 226, 228, and 254(k) unless otherwise noted.

Subpart G—Furnishing of Enhanced Services and Customer-Premises Equipment by Communications Common Carriers; Telephone Operator Services

33. Section 64.709 is amended by revising paragraph (d)(1) to read as follows:

§ 64.709 Informational tariffs.

* * * * *

(d) * * *

(1) The original of the cover letter shall be submitted to the Secretary without attachments, along with FCC Form 159, and the appropriate fee to the U.S. Bank, St. Louis, Missouri.

* * * * *

PART 80—STATIONS IN THE MARITIME SERVICES

34. The authority citation for part 80 continues to read as follows:

Authority: secs. 4, 303, 307(e), 309, and 332, 48 Stat. 1066, 1082, as amended; 47 U.S.C. 154, 303, 307(e), 309, and 332, unless otherwise noted. Interpret or apply 48 Stat. 1064-1068, 1081-1105, as amended; 47 U.S.C. 151-155, 301-609; 3 UST 3450, 3 UST 4726, 12 UST 2377.

Subpart B—Applications and Licenses

35. Section 80.59 is amended by revising the first sentence of paragraph (c)(2) to read as follows:

§ 80.59 Compulsory ship inspections.

* * * * *

(c) * * *

(2) Feeable applications for exemption must be filed with U.S. Bank, P.O. Box 979097, St. Louis, MO 63197-9000 at the address set forth in § 1.1102. * * *

* * * * *

[FR Doc. E8-2940 Filed 2-15-08; 8:45 am]

BILLING CODE 6712-01-P